DEPARTMENT OF LABOR

Occupational Safety and Health Administration

Information Regarding the Reclassification of Positions in the Occupational Safety and Health Administration as Reported in the Department of Labor's FY 2005 FAIR Act Inventory

AGENCY: Occupational Safety and Health Administration (OSHA), Department of Labor.

ACTION: Notice.

SUMMARY: Pursuant to the provisions of the Federal Activities Inventory Reform Act of 1998 (FAIR Act), and the Office of Management and Budget (OMB) Circular A-76, the Department of Labor must notify the public when it either concurs or disagrees with a challenge from directly affected employees. In this case, the challenge concerns the reclassification of a number of full time equivalent (FTE) Whistleblower Investigators, Supervisory Investigators, Program Managers, and Team Leaders in OSHA's National Office and field locations, to “inherently governmental” status from their prior classification as commercial in nature in the Department of Labor's FY 2005 FAIR Act Inventory for OSHA.

FOR FURTHER INFORMATION CONTACT: Douglas Goodell, Office of Human Resources, 200 Constitution Avenue, NW., Washington, DC 20210, 202-693-2588.

SUPPLEMENTARY INFORMATION: Pursuant to the provisions of the Federal Activities Inventory Reform Act of 1998 (Public Law 105-270), and consistent with Section B.1 of Attachment A of Office of Management and Budget (OMB) Circular A-76 (revised May 29, 2003), the Department of Labor has concurred with a challenge from directly affected employees regarding 70 full time equivalent (FTE) Whistleblower Investigators, Supervisory Investigators, Program Managers, and Team Leaders in OSHA's National Office (3 FTE) and 45 field locations (67 FTE). The Department has determined that all 70 FTE should be reclassified as “inherently governmental” from their prior classification as commercial in nature (i.e., 3 FTE as Commercial Reason Code A and 67 FTE as Commercial Reason Code B) in the Department of Labor's FY 2005 FAIR Act Inventory for OSHA. An updated 2005 FAIR Act Inventory report is to be prepared and posted to the Department's FAIR Act Inventory Web site within five (5) business days following the next update cycle.

Signed in Washington, DC this 29th day of June, 2006.
Edwin G. Foulke, Jr.,
Assistant Secretary, Occupational Safety and Health Administration.

[FR Doc. E6-10542 Filed 7-5-06; 8:45 am]

BILLING CODE 4510-26-P